DEPARTMENT OF TRANSPORTATION

Federal Aviation Administration

14 CFR Part 39

[Docket No. 98-NM-259-AD; Amendment 39-11989; AD 98-09-16 R1]

RIN 2120-AA64

Airworthiness Directives; Aerospatiale Model ATR-42 and ATR-72 Series Airplanes

AGENCY: Federal Aviation Administration, DOT.

ACTION: Final rule; rescission.

SUMMARY: This amendment rescinds an existing Airworthiness Directive (AD), applicable to all Aerospatiale Model ATR-42 and ATR-72 series airplanes. That AD currently requires revising the Airplane Flight Manual to add specific flightcrew instructions to be followed in the event of failure of the first generator, which could lead to the loss of main battery power and result in the loss of all electrical power, except the emergency battery supply, during flight. The requirements of that AD were intended to prevent failure of the second of two direct current generators after the failure of the first generator. Since the issuance of that AD, the FAA has received further information indicating that the incident that prompted that AD was an isolated case.

DATES: Effective November 17, 2000.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to all Aerospatiale Model ATR-42 and ATR-72 series airplanes was published in the Federal Register on November 9, 1999 (64 FR 61044). That action proposed to rescind AD 98-09-16. Rescission of AD 98-09-16 constitutes only such action, and does not preclude the agency from issuing another notice in the future, nor would it commit the agency to any course of action in the future.

Comments

Interested persons have been afforded an opportunity to participate in the making of this amendment. No comments were submitted in response to the proposal or the FAA's determination of the cost to the public.

Conclusion

After careful review of the available data, the FAA has determined that air safety and the public interest require the rescission of the rule as proposed.

Cost Impact

The FAA estimates that 145 airplanes of U.S. registry are affected by AD 98-09-16. The actions that are currently required by that AD take approximately 1 work hour per airplane to accomplish, at an average labor rate of $60 per work hour. Based on these figures, the cost impact of the currently required actions on U.S. operators is approximately $8,700, or $60 per airplane. However, the adoption of this rescission will eliminate those costs.

Removal of the AFM revision required by AD 98-09-16 will take approximately 1 work hour per airplane to accomplish, at an average labor rate of $60 per work hour. Based on these figures, the cost impact of removal of the AFM revision is estimated to be $8,700, or $60 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

The Rescission

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding an AD which removes amendment 39-10497, to read as follows:

98-09-16 R1 AEROSPATIALE: Amendment 39-11989. Docket No. 98-NM-259-AD. Rescinds AD 98-09-16, Amendment 39-10497.

Applicability: All Model ATR-42 and ATR-72 series airplanes; certificated in any category.

Effective Date

This rescission is effective November 17, 2000.

Issued in Renton, Washington, on November 9, 2000.
Donald L. Riggin,
Acting Manager, Transport Airplane Directorate, Aircraft Certification Service.

[FR Doc. 00-29378 Filed 11-16-00; 8:45 am]

BILLING CODE 4910-13-U